DEPARTMENT OF COMMERCE

Foreign-Trade Zones Board

[B-76-2018]

Foreign-Trade Zone (FTZ) 70—Detroit, Michigan, Notification of Proposed Production Activity, Fluid Equipment Development Company, LLC (Energy Recovery Turbines and Centrifugal Pumps), Monroe, Michigan

The Greater Detroit Foreign-Trade Zone, Inc., grantee of FTZ 70, submitted a notification of proposed production activity to the FTZ Board on behalf of Fluid Equipment Development Company, LLC (FEDCO), located in Monroe, Michigan. The notification conforming to the requirements of the regulations of the FTZ Board (15 CFR 400.22) was received on November 28, 2018.

The FEDCO facility is located within Site 77 of FTZ 70. The facility is used for the production of energy recovery turbines and centrifugal pumps used in water desalination. Pursuant to 15 CFR 400.14(b), FTZ activity would be limited to the specific foreign-status materials and components and specific finished products described in the submitted notification (as described below) and subsequently authorized by the FTZ Board.

Production under FTZ procedures could exempt FEDCO from customs duty payments on the foreign-status components used in export production. On its domestic sales, for the foreign-status materials/components noted below, FEDCO would be able to choose the duty rates during customs entry procedures that apply to: Energy recovery turbines; single-stage pumps under 2-inch discharge; single-stage pumps over 2-inch discharge; single-stage pumps over 3-inch discharge; multi-stage centrifugal pumps; and, pump spare parts (duty-free). FEDCO would be able to avoid duty on foreign-status components which become scrap/waste. Customs duties also could possibly be deferred or reduced on foreign-status production equipment.

The components and materials sourced from abroad include: Steel cast flanges; steel cast rings; steel cast cavity covers; steel cast bearing holders; steel cast pump inlets; steel cast housings; steel cast seal carriers; and, steel cast impellers (duty rate 2.9%). The request indicates that the materials/components are subject to special duties under Section 301 of the Trade Act of 1974 (Section 301), depending on the country of origin. The applicable Section 301 decisions require subject merchandise to be admitted to FTZs in privileged foreign status (19 CFR 146.41).

Public comment is invited from interested parties. Submissions shall be addressed to the Board's Executive Secretary at the address below. The closing period for their receipt is January 16, 2019.

A copy of the notification will be available for public inspection at the Office of the Executive Secretary, Foreign-Trade Zones Board, Room 21013, U.S. Department of Commerce, 1401 Constitution Avenue NW, Washington, DC 20230-0002, and in the “Reading Room” section of the Board's website, which is accessible via www.trade.gov/ftz.

For further information, contact Elizabeth Whiteman at Elizabeth.Whiteman@trade.gov or (202) 482-0473.

Dated: November 29, 2018.
Andrew McGilvray,
Executive Secretary.

[FR Doc. 2018-26549 Filed 12-6-18; 8:45 am]

BILLING CODE 3510-DS-P